DEPARTMENT OF LABOR

Employment and Training Administration

[TA-W-64,766]

Veyance Technologies, Inc. Formerly Goodyear, Sun Prairie, WI; Notice of Termination of Investigation

Pursuant to Section 221 of the Trade Act of 1974, as amended, an investigation was initiated on December 23, 2008 in response to a worker petition filed by the United Steelworkers of America, Local 904L on behalf of workers of Veyance Technologies, Inc., formerly Goodyear, Sun Prairie, Wisconsin.

The petitioner has requested that the petition be withdrawn. Consequently, the investigation has been terminated.

Signed at Washington, DC, this 25th day of March 2009.
Linda G. Poole,
Certifying Officer, Division of Trade Adjustment Assistance.

[FR Doc. E9-8273 Filed 4-10-09; 8:45 am]

BILLING CODE 4510-FN-P